DEPARTMENT OF LABOR

Employment and Training Administration

[TA-W-52,260]

Rockwell Automation, Inc., Mequon, WI; Notice of Termination of Investigation

Pursuant to section 221 of the Trade Act of 1974, as amended, an investigation was initiated on July 10, 2003, in response to a petition filed by a company official on behalf of workers at Rockwell Automation, Inc., Mequon, Wisconsin.

The petitioner has requested that the petition be withdrawn. Consequently, the investigation has been terminated.

Signed at Washington, DC, this 25th day of July, 2003.
Linda G. Poole,
Certifying Officer, Division of Trade Adjustment Assistance.

[FR Doc. 03-19868 Filed 8-4-03; 8:45 am]

BILLING CODE 4510-30-P